DEPARTMENT OF HEALTH AND HUMAN SERVICES

National Institutes of Health

National Cancer Institute; Amended Notice of Meeting

Notice is hereby given of a change in the meeting of the National Cancer Institute Board of Scientific Advisors, March 4, 2013, 9:00 a.m. to March 5, 2013, 1:00 p.m., National Institutes of Health, Building 31, 31 Center Drive, 6th Floor, Conference Rm. 10, Bethesda, MD, 20892 which was published in the Federal Register on January 24, 2013, 78 FR 5192.

This meeting is amended to change it to a one-day meeting to be held on March 4, 2013, from 9:00 a.m. to 5:00 p.m. The meeting is open to the public.

Dated: February 6, 2013.
Melanie J. Gray,
Program Analyst, Office of Federal Advisory Committee Policy.

[FR Doc. 2013-03116 Filed 2-11-13; 8:45 am]

BILLING CODE 4140-01-P